DEPARTMENT OF JUSTICE

Antitrust Division

Notice Pursuant to the National Cooperative Research and Production Act of 1993—Border Security Technology Consortium

Notice is hereby given that, on May 30, 2012, pursuant to Section 6(a) of the National Cooperative Research and Production Act of 1993, 15 U.S.C. 4301 et seq. (“the Act”), Border Security Technology Consortium (“BSTC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Old Dominion University, Norfolk, VA; DRS Tactical Systems, Inc., Melbourne, FL; Vista Research, Arlington, VA; Ball Aerospace & Technologies Corp., Boulder, CO; List Innovative Solutions, Inc., Herndon, VA; Arc Aspicio, Arlington, VA; University of Arizona, Tucson, AZ; Rapiscan Systems, Torrence, CA; and ICS Consulting, LLC, Arlington, VA. The general area of BSTC's planned activity is (i) to develop various border security-related monitoring, surveillance, communications, fencing and infrastructure, and other supporting technologies that advance the state-of-the-art; (ii) to improve U.S. industry, government and academia capabilities to sustain U.S. border protection in the research, development, engineering and production of border security-related systems; and (iii) to insert these technologies into legacy and development platforms as quickly and efficiently as possible.

Patricia A. Brink,
Director of Civil Enforcement, Antitrust Division.

[FR Doc. 2012-14766 Filed 6-15-12; 8:45 am]

BILLING CODE 4410-11-P